DEPARTMENT OF TRANSPORTATION

Federal Aviation Administration

Notice of Availability of a Final Environmental Assessment (Final EA) and a Finding of No Significant Impact (FONSI)/Record of Decision (ROD) for the Proposed Airport Traffic Control Tower With Associated Base Building and Airport Surveillance Radar, Model 9, Replacement/Relocation at Cleveland Hopkins International Airport, Cleveland, OH

AGENCY: Federal Aviation Administration (FAA), DOT.

ACTION: Notice of Availability of a Final Environmental Assessment (EA) and Finding of No Significant Impact (FONSI)/Record of Decision (ROD) for a Proposed Airport Traffic Control Tower with Associated Base Building and an Airport Surveillance Radar, Model 9, Replacement/Relocation at Cleveland Hopkins International Airport, Cleveland, Ohio.

SUMMARY: The Federal Aviation Administration (FAA) is issuing this notice to advise the public that the FAA has prepared, and approved on November 18, 2009, a Finding of No Significant Impact (FONSI)/Record of Decision (ROD) based on the Final Environmental Assessment (Final EA) for a Proposed Airport Traffic Control Tower (ATCT) with Associated Base Building and an Airport Surveillance Radar, Model 9 (ASR-9), Replacement/Relocation at Cleveland Hopkins International Airport, (CLE) Cleveland, Ohio. The FAA prepared the Final EA in accordance with the National Environmental Policy Act and the FAA's regulations and guidelines for environmental documents. The Final EA was reviewed and evaluated by the FAA, and was accepted on October 22, 2009 as a Federal document by the FAA's Responsible Federal Official.

FOR FURTHER INFORMATION CONTACT: Ms. Virginia Marcks, Manager, Infrastructure Engineering Center, AJW-C14D, Federal Aviation Administration, 2300 East Devon Avenue, Des Plaines, Illinois 60018. Telephone number: (847) 294-7494.

SUPPLEMENTARY INFORMATION: The Final EA evaluated the construction and operation of a new ATCT and replacement and relocation of the ASR-9 at CLE. The ATCT would be constructed in the southeast portion of CLE on Taxiway KI and have a maximum height of 325 feet above ground level (AGL). The facility would include a Base Building/Terminal Radar Approach Control (TRACON) Facility, employee parking, security fence and an access road across abandoned Taxiway Q from Postal Road. The facility components will consist of the ATCT cab, tower shaft, Base Building, personnel parking, and guardhouse. The new ATCT and Base Building/TRACON shall be designed to incorporate, as practicable, energy-efficient design, equipment, systems and other measures in their construction in order to reduce energy consumption and improve environmental performance of the new facilities. There will be a maximum of 150 parking spaces for ATCT controllers, the TRACON staff, technical operations staff, administrative personnel, visitors, and Systems Support Center personnel. There will also be a two-story Base Building/TRACON facility with approximately 45,000SF of space. The tower will have an 850 SF cab and a cab eye level elevation of 305 feet AGL. The total space will accommodate the needed staffing and new communications and surveillance equipment. The ATCI's water, sewer, and electrical feeds will be extended and connected to the existing utility lines on the airport. Drainage and runoff will be collected for conveyance via the airport's stormwater drainage system, which is reported by CLE to have excess capacity.

The project also includes replacing and relocating the ASR-9 surveillance radar equipment to a location that is adjacent to the future expansion area of the CLE's Riveredge employee parking lot. Relocation of the ASR-9 is needed because the preferred location for the ATCT lies within the 1,500-foot Clear Area of the airport's existing ASR-9, and the new ATCT shaft would block the radar antenna's coverage to the southeast of the airport. The ASR-9 will be relocated to the Riveredge site to provide unobstructed radar coverage of the ASR-9's 60-mile service area. The base of the ASR-9 tower will be four concrete pylons set on a 30-foot by 30-foot grid, with an equipment shelter, HVAC pads, and security fence. Utility feeds will be from adjacent services in the employee parking lot, as well as from the nearby Remote Transmitter/Receiver (RTR) facility. Access will be via a stub driveway from the existing Riveredge employee parking lot gate. The new ASR-9 will provide enhanced coverage prior to the old ASR-9 being shut down. Once the new ASR-9 is up and running, the old ASR-9 will be decommissioned and construction will begin on the new ATCT.

The Final EA has been prepared in accordance with the National Environmental Policy Act (NEPA) of 1969, as amended, and FAA Order 1050.1E, “Environmental Impacts: Policies and Procedures.” In addition, FAA Order 5050.4B, “National Environmental Policy Act (NEPA) Implementing Instructions for Airport Actions” has been used as guidance the preparation of the environmental analysis.

Issued in Des Plaines, Illinois, on December 3, 2009.
Virginia Marcks,
Manager, Infrastructure Engineering Center, Chicago, AJW-C14D Federal Aviation Administration.

[FR Doc. E9-29399 Filed 12-9-09; 8:45 am]

BILLING CODE 4910-13-M